DEPARTMENT OF ENERGY

Federal Energy Regulatory Commission

[Docket Nos. EC01-70-000 and ER01-1259-000 (Consolidated)]

Wisvest-Connecticut, LLC; NRG Connecticut Power Assets, LLC; Notice of Technical Conference

August 16, 2001.

On February 16, 2001, as amended on April 11, 2001 and April 30, 2001, Wisvest Connecticut, LLC and NRG Connecticut Power Assets, LLC (Applicants) filed an application seeking authority to transfer certain jurisdictional facilities from Wisvest to NRG Connecticut. In addition, on February 16, 2001, as amended on April 11, 2001, NRG Connecticut filed a request to sell power at market-based rates.

Take notice that a technical conference to discuss the issues raised by Applicants' filing will be held on Wednesday and Thursday, September 5 and 6, at 10:00 a.m., in a room to be designated at the offices of the Federal Energy Regulatory Commission, 888 First Street, NE., Washington, DC 20426. Persons protesting any aspects of Applicants' filing should be prepared to defend their positions as well as discuss alternatives.

All parties and Staff are permitted to attend. To assist Staff in compiling a list of attendees for distribution at the conference, please e-mail John J. Buckley at john.buckley@ferc.fed.us, stating your name, the name of the entity you represent, the names of the persons who will be accompanying you, and an e-mail address and telephone number where you can be reached.

Discussion will be limited to issues pertaining to the mitigation of potential adverse competitive effects relating to Applicants' filings under sections 203 and 205 of the Federal Power Act.

The above schedule may be changed as circumstances warrant.

David P. Boergers,
Secretary.

[FR Doc. 01-21111 Filed 8-21-01; 8:45 am]

BILLING CODE 6717-01-P